DEPARTMENT OF TRANSPORTATION (DOT)

Federal Aviation Administration

14 CFR Part 39

[Docket No. FAA-2008-1067; Directorate Identifier 2008-CE-052-AD; Amendment 39-15688; AD 2008-21-04]

RIN 2120-AA64

Airworthiness Directives; Hawker Beechcraft Corporation Model 390 Airplanes

AGENCY: Federal Aviation Administration (FAA), DOT.

ACTION: Final rule; request for comments.

SUMMARY: The FAA is adopting a new airworthiness directive (AD) for certain Hawker Beechcraft Corporation Model 390 airplanes. This AD requires you to modify the cabin barometric pressure switch and cabin altitude high switch installations and perform a functional test of the switches and related systems. This AD results from the possibility of barometric pressure switch electrical connections being incorrectly connected or inadvertently disconnected. We are issuing this AD to modify the cabin barometric pressure switch and cabin altitude high switch to prevent them from becoming incorrectly connected or inadvertently disconnected, which may result in no CABIN ALT HI annunciation in the cockpit and no automatic deployment of the cabin oxygen masks. This failure could lead to incapacitation of the crew due to hypoxia with possible inability to control the airplane.

DATES: This AD becomes effective on October 20, 2008.

On October 20, 2008, the Director of the Federal Register approved the incorporation by reference of certain publications listed in this AD.

We must receive any comments on this AD by December 8, 2008.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Hawker Beechcraft Corporation, P.O. Box 85, Wichita, Kansas 67201-0085; telephone: (800) 429-5372 or (316) 676-3140; http://pubs.hawkerbeechcraft.com.

To view the comments to this AD, go to http://www.regulations.gov. The docket number is FAA-2008-1067; Directorate Identifier 2008-CE-052-AD.

FOR FURTHER INFORMATION CONTACT: Erik Brown, Aerospace Engineer, Wichita Aircraft Certification Office, 1801 Airport Road, Room 100, Wichita, Kansas 67209; telephone: (316) 946-4132; fax: (316) 946-4107.

SUPPLEMENTARY INFORMATION:

Discussion

We received reports of three occurrences of incorrectly connected barometric pressure switches on Hawker Beechcraft Corporation Model 390 airplanes. This issue was discovered when an unannunciated cabin altitude high event occurred on one of the affected airplanes. Because the electrical connections of the barometric switches are identical, they have the potential of being incorrectly connected. Also, the wire cannot be positively secured to the switch, and it may become inadvertently disconnected. Either condition could cause loss of ability to annunciate a cabin altitude high condition.

This condition, if not corrected, could result in no CABIN ALT HI annunciation in the cockpit and no automatic deployment of the cabin oxygen masks. This failure could lead to incapacitation of the crew due to hypoxia with possible inability to control the airplane.

Relevant Service Information

We reviewed Hawker Beechcraft Mandatory Service Bulletin SB 21-3899, issued: May 2008. The service information describes procedures for modifying the cabin barometric pressure switch and cabin altitude high switch installations and performing a functional test of the switches and related systems.

FAA's Determination and Requirements of this AD

We are issuing this AD because we evaluated all the information and determined the unsafe condition described previously is likely to exist or develop on other products of the same type design. This AD requires you to modify the cabin barometric pressure switch and cabin altitude high switch installations and perform a functional test of the switches and related systems.

FAA's Determination of the Effective Date

An unsafe condition exists that requires the immediate adoption of this AD. The FAA has found that the risk to the flying public justifies waiving notice and comment prior to adoption of this rule because occurrences of incorrectly connected barometric switches have been reported. Also, the terminal used on the switches may be inadvertently dislodged while performing airplane maintenance in the pedestal area. A potential consequence of an incorrectly connected or dislodged barometric switch is no CABIN ALT HI annunciation in the cockpit and no automatic deployment of the cabin oxygen masks. This failure could lead to incapacitation of the crew due to hypoxia with possible inability to control the airplane. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2008-1067; Directorate Identifier 2008-CE-052-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR Part 39 as follows:

PART 39—AIRWORTHINESS DIRECTIVES

1. The authority citation for Part 39 continues to read as follows:

Authority: 49 U.S.C. 106(g), 40113, 44701.

§ 39.13 [Amended]

2. The FAA amends § 39.13 by adding the following new airworthiness directive (AD):

2008-21-04 Hawker Beechcraft Corporation: Amendment 39-15688; Docket No. FAA-2008-1067; Directorate Identifier 2008-CE-052-AD.

Effective Date

(a) This AD becomes effective on October 20, 2008.

Affected ADs

(b) None.

Applicability

(c) This AD applies to Model 390 airplanes, serial numbers RB-1 and RB-4 through RB-238, that are certificated in any category.

Unsafe Condition

(d) This AD is the result of reported occurrences of incorrectly connected barometric switches. Also, the terminal used on the switches may be inadvertently dislodged while performing airplane maintenance in the pedestal area. We are issuing this AD to modify the cabin barometric pressure switch and cabin altitude high switch to prevent them from becoming incorrectly connected or inadvertently disconnected, which may result in no CABIN ALT HI annunciation in the cockpit and no automatic deployment of the cabin oxygen masks. This failure could lead to incapacitation of the crew due to hypoxia with possible inability to control the airplane.

Compliance

(e) To address this problem, you must do the following, unless already done:

Action | Compliance | Procedures
(1) Modify the cabin barometric pressure switch and cabin altitude high switch installations. | Within 25 hours time-in-service (TIS) after October 20, 2008 (the effective date of this AD) or within 30 days after October 20, 2008 (the effective date of this AD), whichever occurs first. | Follow Hawker Beechcraft Mandatory Service Bulletin SB 21-3899, original issue, dated May 2008.
(2) Perform a functional test of the switches and related systems: (i) If, before the effective date of this AD, you did the flight test method in Part II of the Accomplishment Instructions of the service bulletin referenced in the Procedures column of this paragraph, then the action of paragraph (e)(2) of this AD is not required provided it was done after the modification required in paragraph (e)(1) of this AD. (ii) After the effective date of this AD, the flight test method described in paragraph (e)(2)(i) of this AD is prohibited. | Before further flight after the modification of the cabin barometric pressure switch and cabin altitude high switch installations specified in paragraph (e)(1) of this AD. | Following Part I—Ground Test Method paragraph 3, Accomplishment Instructions of Hawker Beechcraft Mandatory Service Bulletin SB 21-3899 original issue, dated May 2008.

Alternative Methods of Compliance (AMOCs)

(f) The Manager, Wichita Aircraft Certification Office (ACO), FAA, has the authority to approve AMOCs for this AD, if requested using the procedures found in 14 CFR 39.19. Send information to ATTN: Erik Brown, Aerospace Engineer, Wichita ACO, 1801 Airport Road, Room 100, Wichita, Kansas 67209; telephone: (316) 946-4132; fax: (316) 946-4107. Before using any approved AMOC on any airplane to which the AMOC applies, notify your appropriate principal inspector (PI) in the FAA Flight Standards District Office (FSDO), or lacking a PI, your local FSDO.

Material Incorporated by Reference

(g) You must use Hawker Beechcraft Mandatory Service Bulletin SB 21-3899, original issue, dated May 2008, to do the actions required by this AD, unless the AD specifies otherwise.

(1) The Director of the Federal Register approved the incorporation by reference of this service information under 5 U.S.C. 552(a) and 1 CFR part 51.

(2) For service information identified in this AD, contact Hawker Beechcraft Corporation, P.O. Box 85, Wichita, Kansas 67201-0085; telephone: (800) 429-5372 or (316) 676-3140; http://pubs.hawkerbeechcraft.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on September 30, 2008.
John Colomy,
Acting Manager, Small Airplane Directorate, Aircraft Certification Service.

[FR Doc. E8-23643 Filed 10-8-08; 8:45 am]

BILLING CODE 4910-13-P